DEPARTMENT OF LABOR

Employment and Training Administration

Agency Information Collection Activities; Comment Request; Agricultural Recruitment System Forms Affecting Migratory Farm Workers

ACTION: Notice.

SUMMARY: The Department of Labor's (DOL) Employment and Training Administration (ETA) is soliciting comments concerning proposed revisions to the information collection request (ICR) entitled, “Agricultural Recruitment System Forms Affecting Migratory Farm Workers” (Office of Management and Budget (OMB) Control Number 1205-0134). This comment request is part of continuing Departmental efforts to reduce paperwork and respondent burden in accordance with the Paperwork Reduction Act of 1995 (PRA).

DATES: Consideration will be given to all written comments received by October 20, 2025.

ADDRESSES: A copy of this ICR with applicable supporting documentation, including a description of the likely respondents, proposed frequency of response, and estimated total burden, may be obtained free by contacting Laura Tramontana by email at NMA@dol.gov or telephone at 202-693-3980 (this is not a toll-free number). For persons with a hearing or speech disability who need assistance to use the telephone system, please dial 711 to access telecommunications relay services.

Submit written comments about, or requests for a copy of, this ICR by mail or courier to the U.S. Department of Labor, Employment and Training Administration, Office of Workforce Investment, Room C 4510, 200 Constitution Avenue NW, Washington, DC 20210; by email: NMA@dol.gov; or by fax 202-693-3981.

FOR FURTHER INFORMATION CONTACT: Laura Tramontana by email at NMA@dol.gov or by telephone at 202-693-3980 (this is not a toll-free number).

Authority: 44 U.S.C. 3506(c)(2)(A).

SUPPLEMENTARY INFORMATION: DOL, as part of continuing efforts to reduce paperwork and respondent burden, conducts a pre-clearance consultation program to provide the general public and Federal agencies an opportunity to comment on proposed and/or continuing collections of information before submitting them to the Office of Management and Budget (OMB) for final approval. This program helps to ensure requested data can be provided in the desired format, reporting burden (time and financial resources) is minimized, collection instruments are clearly understood, and the impact of collection requirements can be properly assessed.

This Information Collection Request (ICR) relates to the Notice of Proposed Rulemaking (NPRM) RIN 1205-AC25, Recission of Final Rule: Improving Protections for Workers in Temporary Agricultural Employment in the United States,¹ and the Agricultural Recruitment System (ARS) administered by ETA. While the NPRM affects two ICRs (OMB Control Numbers 1205-0466, H-2A Temporary Agricultural Labor Certification Program and 1205-0134, Agricultural Recruitment System Forms Affecting Migratory Farm Workers), this FRN applies only to OMB Control Number 1205-0134. As part of the above-mentioned rulemaking, the Department requests to revise OBM Control Number 1205-0134 to collect information through Form ETA-790B, which is necessary for processing ARS clearance orders that are not placed in connection with the H-2A program (non-criteria clearance orders) under 20 CFR part 653, subpart F. ETA's proposed revisions to Form ETA-790B align with the structure of Form ETA-790A, H-2A Agricultural Clearance Order (OMB Control Number 1205-0466, H-2A Temporary Agricultural Labor Certification Program), which employers and State Workforce Agencies (SWA) use to process clearance orders that are placed in connection with the H-2A program (criteria clearance orders). Further, this update to OMB Control Number 1205-0134 includes changes that improve clarity for employers, including formatting and applicable addenda for Form ETA-790B.

¹ See Recission of Final Rule: Improving Protections for Workers in Temporary Agricultural Employment in the United States, 90 FR 28919 (Jul. 2, 2025).

Wagner-Peyser Employment Service (ES) regulations at 20 CFR part 653, subpart F describe requirements for ARS clearance orders, including that SWAs must ensure the agricultural clearance form prescribed by the Department (Form ETA-790 or its subsequently issued form), and its attachments are complete when placing intrastate or interstate clearance orders seeking workers. (20 CFR 653.501(b)(1)). ETA created Form ETA-790B to process clearance orders that are not placed in connection to H-2A Applications for Temporary Employment Certification (non-criteria clearance orders). Employers submitting non-criteria clearance orders must attach Form ETA-790B to Form ETA-790 (which is approved under OMB Control Number 1205-0466). Pursuant to 2 CFR 200.334, SWAs must retain all Federal award records (which includes Forms ETA-790 and ETA-790B) for three years from the date of submission of their final financial report. While Form ETA-790B only applies to non-criteria clearance orders, the Department includes the estimated burden to the public for the completion of Form ETA-790, in addition to the estimated burden for the Form ETA-790B, to the extent that it applies to employers submitting non-criteria agricultural clearance orders that must complete both forms.

This information collection is subject to the PRA. A Federal agency generally cannot conduct or sponsor a collection of information, and the public is generally not required to respond to an information collection, unless it is approved by OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention OMB Control Number 1205-0134.

Submitted comments will also be a matter of public record for this ICR and posted on the internet, without redaction. DOL encourages commenters not to include personally identifiable information, confidential business data, or other sensitive statements/information in any comments.

DOL is particularly interested in comments that:

• Evaluate whether the proposed collection of information is necessary for the proper performance of the functions of the Agency, including whether the information will have practical utility;

• Evaluate the accuracy of the Agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, (e.g., permitting electronic submission of responses).

Agency: DOL-ETA.

Type of Review: Revision.

Title of Collection: Agricultural Recruitment System Forms Affecting Migratory Farm Workers.

Form: ETA-790B.

OMB Control Number: 1205-0134.

Affected Public: State Governments, Private Sector: Business or other for-profits, not-for-profit institutions, and farms.

Estimated Number of Respondents: 6,896.

Frequency: 1.

Total Estimated Annual Responses: 6,896.

Estimated Average Time per Response: Varies.

Estimated Total Annual Burden Hours: 6,034 hours.

Total Estimated Annual Other Cost Burden: $0.

Susan Frazier,
Acting Assistant Secretary for Employment and Training, Labor.

[FR Doc. 2025-15957 Filed 8-20-25; 8:45 am]

BILLING CODE 4510-FN-P